GENERAL SERVICES ADMINISTRATION

[Notice-IEB-2024-03; Docket No. 2024-0002; Sequence No. 21]

Privacy Act of 1974; Rescindment of a System of Records Notice

AGENCY: General Services Administration (GSA).

ACTION: Rescindment of a System of Records Notice.

SUMMARY: Pursuant to the provisions of the Privacy Act of 1974, notice is given that the General Services Administration (GSA) proposes to rescind a System of Records Notice, GSA/GOVT-10, Login.gov. This system of records contains information related to the development and operation of a citizen-centric platform for delivering government services through a centralized single sign-on platform.

DATES: This system of records stopped being maintained in 2017.

ADDRESSES: Comments may be submitted to the Federal eRulemaking Portal, http://www.regulations.gov. Submit comments by searching for GSA/GOVT-10.

FOR FURTHER INFORMATION CONTACT: Call or email Richard Speidel, Chief Privacy Officer at (202) 969-5830 and gsa.privacyact@gsa.gov.

SUPPLEMENTARY INFORMATION: GSA proposes to rescind a System of Records Notification, GSA/GOVT-10, Login.gov. This Notice is being rescinded because no records were ever collected under the government-wide SORN GSA/GOVT-10. GSA/GOVT-10 was published in the Federal Register in August 2016 and is directed to a version of Login.gov that did not enter production. No records were ever collected or used under this proposed system of records.

Agency-specific SORN GSA/TTS-1 was published less than five months later and includes an administratively incorrect attempt to rescind GSA/GOVT-10. The following rescindment attempt appears in the Supplementary Information section of GSA/TTS-1 (January 19, 2017):

“The previously published notice, at 81 FR 57912, on August 24, 2016, is being replaced.”

GSA did not timely file a SORN rescindment notice for GSA/GOVT-10 at the time of publication of GSA/TTS-1. The present notice addresses this issue.

Moreover, this rescindment addresses an instance where the same number was inadvertently used for two separate Notices. GSA published GSA/GOVT-10 (Login.gov) in 2016 and inadvertently reused the same SORN number for GSA/GOVT-10 (Federal Acquisition Regulation (FAR) Data Collection System), which was published in 2017. This rescindment action resolves the discrepancy with only the 2017 GSA/GOVT-10 (Federal Acquisition Regulation (FAR) Data Collection System) remaining in effect.

SYSTEM NAME:

Login.gov.

SYSTEM NUMBER:

GSA/GOVT-10.

HISTORY:

This system was previously published in the Federal Register at 81 FR 57912, August 24, 2016.

Richard Speidel,
Chief Privacy Officer, Office of Enterprise Data & Privacy Management, General Services Administration.

[FR Doc. 2024-09106 Filed 4-26-24; 8:45 am]

BILLING CODE 6820-AB-P